DEPARTMENT OF TRANSPORTATION

Federal Aviation Administration

14 CFR Part 39

[Docket No. 2001-NM-272-AD; Amendment 39-13575; AD 2004-08-06]

RIN 2120-AA64

Airworthiness Directives; BAE Systems (Operations) Limited Model BAe 146-100A and -200A Series Airplanes

AGENCY: Federal Aviation Administration, DOT.

ACTION: Final rule.

SUMMARY: This amendment adopts a new airworthiness directive (AD), applicable to all BAE Systems (Operations) Limited Model BAe 146-100A and -200A series airplanes, that requires an inspection to determine the part number of the inner links of the side stays for the main landing gear (MLG), and replacement of the inner links with new parts, if necessary. This action is necessary to prevent the failure of the MLG, which could result in damage to the airplane structure or injury to airplane occupants. This action is intended to address the identified unsafe condition.

DATES: Effective May 24, 2004.

The incorporation by reference of a certain publication listed in the regulations is approved by the Director of the Federal Register as of May 24, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited Model BAe 146-100A and -200A series airplanes was published in the Federal Register on December 5, 2003 (68 FR 67986). That action proposed to require an inspection to determine the part number of the inner links of the side stays for the main landing gear (MLG), and replacement of the inner links with new parts, if necessary.

Comments

Interested persons have been afforded an opportunity to participate in the making of this amendment. Due consideration has been given to the comment received.

Request to Revise Description of Part Having Specified Part Numbers

One commenter requests that paragraphs (b) and (c) of the proposed AD be revised to clarify the description of the part having the specified part numbers. The commenter notes that paragraphs (b) and (c) of the proposed AD require actions for side stays having part number 200884319, 200884320,200884331, 200884332, 200884342, or 200884343. The commenter contends that this leads readers to believe the part numbers are for the side stay, but the part numbers are actually for the inner link subassembly of the side stay. The commenter recommends that paragraphs (b) and (c) be revised to clarify that the actions are for any side stay having an inner link with part number 200884319, 200884320, 200884331, 200884332, 200884342, or 200884343.

The FAA agrees that paragraphs (b) and (c) of the final rule should be revised to clarify the description of the part having the specified part numbers. As stated by the commenter, the part numbers specified in paragraphs (b) and (c) of the final rule are found on the inner link. We have revised paragraphs (b) and (c) of the final rule to clarify that the required actions apply to any side stay having an inner link with part number 200884319, 200884320, 200884331, 200884332, 200884342, or 200884343.

Conclusion

After careful review of the available data, including the comment noted above, the FAA has determined that air safety and the public interest require the adoption of the rule with the changes described previously. The FAA has determined that these changes will neither increase the economic burden on any operator nor increase the scope of the AD.

Cost Impact

The FAA estimates that 15 airplanes of U.S. registry will be affected by this AD, that it will take approximately 1 work hour per airplane to accomplish the required inspection, and that the average labor rate is $65 per work hour. Based on these figures, the cost impact of the AD on U.S. operators is estimated to be $975, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-08-06 BAE Systems (Operations) Limited (Formerly British Aerospace Regional Aircraft): Amendment 39-13575. Docket 2001-NM-272-AD.

Applicability: All Model BAe 146-100A and -200A series airplanes; certificated in any category.

Compliance: Required as indicated, unless accomplished previously.

To prevent the failure of the main landing gear (MLG), which could result in damage to the airplane structure or injury to airplane occupants, accomplish the following:

Inspection to Determine Part Number

(a) Within 50 landings or 31 days after the effective date of this AD, whichever occurs first: Inspect the inner link of the side stays of the MLG to determine the part number, per the Accomplishment Instructions of BAE Systems (Operations) Limited Inspection Service Bulletin ISB.32-166, dated May 28, 2001. Although this service bulletin specifies to submit certain information to the manufacturer, this AD does not include such a requirement.

Note 1: BAE Systems (Operations) Limited Inspection Service Bulletin, ISB.32-166, dated May 28, 2001, references Messier-Dowty Service Bulletin 146-32-153, dated May 29, 2001, as an additional source of service information for accomplishment of the inspection and replacement required by this AD. Although the Messier-Dowty service bulletin specifies to submit certain information to the manufacturer, this AD does not include such a requirement.

Replacement at New Reduced Safe Life

(b) For any side stay which, during the inspection required by paragraph (a) of this AD, is found to have an inner link with part number 200884319, 200884320, 200884331, 200884332, 200884342, or 200884343: Replace the inner link with a new inner link having the same part number, at the applicable compliance time specified in paragraph 1.D. “Compliance” of BAE Systems (Operations) Limited Inspection Service Bulletin ISB.32-166, dated May 28, 2001, as measured from the effective date of this AD.

Safe Remaining Life

(c) If any side stay having an inner link with part number 200884319, 200884320, 200884331, 200884332, 200884342, or 200884343 has been used at different operating weights, and the service bulletin recommends contacting Messier-Dowty for appropriate action based on the safe remaining life of the side stay: Contact the Manager, International Branch, ANM-116, FAA,Transport Airplane Directorate; or the Civil Aviation Authority (CAA), which is the airworthiness authority for the United Kingdom, (or its delegated agent); for appropriate action.

Alternative Methods of Compliance

(d) In accordance with 14 CFR 39.19, the Manager, International Branch, ANM-116, Transport Airplane Directorate, FAA, is authorized to approve alternative methods of compliance for this AD.

Incorporation by Reference

(e) Unless otherwise specified in this AD, the actions shall be done in accordance with BAE Systems (Operations) Limited Inspection Service Bulletin ISB.32-166, dated May 28, 2001. This incorporation by reference was approved by the Director of the Federal Register in accordance with 5 U.S.C. 552(a) and 1 CFR part 51. Copies may be obtained from British Aerospace Regional Aircraft American Support, 13850 Mclearen Road, Herndon,Virginia 20171. Copies may be inspected at the FAA, Transport Airplane Directorate, 1601 Lind Avenue, SW., Renton, Washington; or at the Office of the Federal Register, 800 North Capitol Street, NW., suite 700, Washington, DC.

Note 2: The subject of this AD is addressed in British airworthiness directive 005-05-2001.

Effective Date

(f) This amendment becomes effective on May 24, 2004.

Issued in Renton, Washington, on April 6, 2004.
Kevin M. Mullin,
Acting Manager, Transport Airplane Directorate, Aircraft Certification Service.

[FR Doc. 04-8541 Filed 4-16-04; 8:45 am]

BILLING CODE 4910-13-P